DEPARTMENT OF TRANSPORTATION

Federal Aviation Administration

14 CFR Part 71

[Docket No. FAA-2011-1237; Airspace Docket No. 08-AWA-5]

RIN 2120-AA66

Amendment to Class B Airspace; Atlanta, GA

AGENCY: Federal Aviation Administration (FAA), DOT.

ACTION: Final rule.

SUMMARY: This action modifies the Atlanta, GA, Class B airspace area to ensure the containment of large turbine-powered aircraft operating to and from the Hartsfield-Jackson Atlanta International Airport (ATL). The FAA is taking this action to enhance safety and reduce the potential for midair collision in the Atlanta, GA, terminal area.

DATES: Effective Date: 0901 UTC, March 7, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

On February 3, 2012, the FAA published in the Federal Register a notice of proposed rulemaking (NPRM) to modify the Atlanta, GA, Class B airspace area (77 FR 5429). Interested parties were invited to participate in this rulemaking effort by submitting written comments on the proposal. A total of 159 commenters responded to the NPRM. The FAA considered all comments received before making a determination on this final rule.

Discussion of Comments

Of the 159 responses received, 135 concerned the airspace in the vicinity of Dekalb-Peachtree Airport (PDK). All of these commenters opposed the Class B modification in the vicinity of PDK contending that it would result in lower flight paths for ATL arrivals, and PDK arrivals and departures, thus leading to various adverse impacts, such as: increased noise, increased air pollution and health problems, lower property values, detrimental effect on local businesses, decreased tax revenues due to lower property value and decreased commerce, inability to sell homes and decreased quality of life.

The above perceived impacts appear to be based on the belief that the Class B change would lead to IFR flights operating at lower altitudes than they do today. This is incorrect. The Class B modifications, including those in the PDK area, are based on the need to contain IFR aircraft that are now operating below Class B airspace. It is important to note that existing IFR operating altitudes will not change.

Noise concerns were a recurring theme in the PDK-related comments, in that the main concern was that lowering the floor of the Class B airspace would allow more aircraft to fly lower over residential areas. The vast majority of the noise experienced by these residents is caused by aircraft flying at or below 3,000 feet MSL during takeoff and/or landing operations at the PDK airport. Those aircraft will continue to fly at those altitudes regardless of any changes made in the Atlanta Class B airspace. In addition, an FAA study done in response to comments at the Informal Airspace Meetings, held in 2010, shows that almost 98 percent of the aircraft that fly in the vicinity of PDK are already operating below 5,000 feet MSL. Therefore, lowering the floor of the Class B airspace will not have an appreciable effect on the amount of noise experienced by the residents in neighborhoods surrounding PDK.

Further, the FAA is not changing air traffic procedures. Where IFR aircraft fly today is where they will continue to fly after implementation of the Class B modification. This rule addresses the issue that these aircraft are currently operating at altitudes that are below the floor of the existing Class B airspace. In order to minimize the potential for midair collisions in the Atlanta terminal area, FAA directives require that large turbine powered aircraft arriving at and departing from the primary airport (in this case, ATL) be contained within Class B airspace. Since the routes and altitudes that ATL IFR arrivals and departures are currently flying will not change, there will not be an increase of over-flights or noise from what residents in the PDK area are already experiencing today. Aircraft operating to and from Hartsfield will not begin flying lower over residential areas near PDK Airport due to lowering the Class B floor.

The commenters also contend that the Class B changes would increase IFR delays for PDK departures and arrivals, resulting in wasted fuel and increased operating costs as well as causing PDK IFR arrivals to circle over the neighborhoods while waiting to land.

The FAA does not agree. Today, PDK IFR departures are initially cleared to climb to the highest available altitude, typically 5,000 feet MSL, but sometimes lower based on other traffic. These aircraft climb at their normal rate until reaching their assigned altitude, so even if an aircraft is cleared to 4,000 feet instead of 5,000 feet, its initial rate of climb would be the same and there would be no increased impact on the ground that might be caused by a slower climb rate. Lowering the floor of the Class B in the vicinity of PDK will not alter this practice, since 5,000 feet will continue to be assigned by the satellite controller. PDK IFR arrivals operate on final approach at minimum altitudes that are based on obstacle clearance criteria and descent profiles defined by instrument procedure design standards. These IFR procedure altitudes cannot be lowered. Additionally, the established VFR traffic patterns at the satellite airports are not changing due to this rule.

ATL arrivals currently fly in the PDK area at 6,000 feet today and they will continue to operate at that altitude after the Class B change. The purpose of lowering the floor to 5,000 feet in the PDK area is to contain, within Class B airspace, the ATL departures that are now flying at 5,000 feet underneath the arrivals. Since arrivals and departures at both ATL and PDK will continue to operate at the same altitudes as they do today, none of the above listed impacts would occur as a result of the Class B airspace modification.

However, in view of the large number of comments received, and the Ad Hoc Committee recommendation concerning the Class B changes near PDK, we explored the possibility of modifying the Class B airspace design in that area. We determined that we can move the proposed north boundary of the 5000 foot area (Area F) to the south of PDK, and move the proposed boundary of the 6000 foot area (Area J—located northeast of PDK) to the east by 2 miles. This design change will lower the Class B floor over PDK from the current 8,000 feet to 7,000 feet instead of 5,000 feet as proposed in the NPRM. We believe that this accommodation will not compromise safety. The reduced size of the 5,000 foot area will still contain ATL departures operating beneath the arrivals as well as provide a higher Class B floor above PDK.

In addition to the PDK comments discussed above, 24 commenters stated that lowering the floor of the Class B airspace would cause increased IFR departure delays out of both Fulton County Airport-Brown Field (FTY) and PDK.

The FAA does not agree. The existence of Class B airspace has no impact on IFR delays from these airports. The determining factors for IFR delays are normally traffic volume and weather. Traffic volume delays exist today from time to time. Lowering the floor of the Class B airspace does not equate to an increase in traffic volume. The traffic that flows through the affected airspace is already there—the only difference is that the aircraft that are currently operating below Class B airspace will now be contained within the Class B airspace, which increases the margin of safety. There is also an incorrect perception that IFR aircraft departing satellite airports are kept out of the Class B. This is not true. With the modified Class B, aircraft departing satellite airports will be worked within Class B airspace more frequently. For example, a turbojet aircraft departing Runway 8 at FTY, going eastbound, is normally assigned 5,000 feet MSL shortly after take-off. Today, that aircraft is outside Class B airspace. With the modified Class B floor, that same aircraft will still be assigned 5,000 feet MSL but will now be contained within Class B airspace.

Many commenters asserted that there would be a decrease in safety margins for flights due to compression of VFR traffic into less airspace beneath the new Class B floors. Considering terrain and obstacles in the area, the commenters stated that there could be a higher risk of collision and less time for pilots to react to an in-flight emergency. The commenters argued that compressing a significant amount of traffic into an even smaller amount of airspace would cause safety concerns and inefficient operation of aircraft. In addition, the commenters contend that the lower floors could create unsafe operating conditions for pilots transiting above the Class D airspace areas that underlie the new Class B floor.

The FAA acknowledges that pilots electing to fly below the floor of Class B airspace may be compressed. However, the lower floors are necessary to segregate those aircraft operations from the large turbine-powered aircraft arriving and departing ATL. The Atlanta terminal area encompasses not only the world's busiest airport (with over 920,000 airport operations in CY 2011), but also PDK & FTY airports in close proximity, with their combined airport operations total that exceeded 212,000 in CY 2011. Plus, numerous other airports are situated in and around the Atlanta terminal area. These factors create a complex, high density airspace environment containing a highly diverse mix of aircraft types and aviation activities. Currently, large turbine-powered aircraft and VFR aircraft are flying simultaneously in the same airspace. It is essential to segregate the ATL traffic from nonparticipating aircraft that may not be in communication with ATC. Consequently, some nonparticipating VFR aircraft may have to fly further, or at different altitudes, in order to remain clear of the modified Class B. Ultimately, it is the pilot's responsibility to evaluate all factors that could affect a planned flight and determine the safest course of action whether it is circumnavigating the Class B, flying beneath the area, utilizing a charted VFR flyway, or requesting Class B clearance from Atlanta TRACON.

One commenter stated that the new 6,000 foot floor in the southern portion of the Class B is not prudent for safe operation of small airplanes in the area. The commenter said less maneuvering room would be available for avoiding obstructions, clouds and turbulence, and for training activities such as practice stalls.

It is a pilot responsibility to determine if there is enough altitude/airspace available to conduct training maneuvers. If a pilot believes that there is not enough airspace to conduct a particular maneuver, it is his/her responsibility to conduct the operation in appropriate airspace. The FAA finds that the new 6,000-floor still provides sufficient space for safe operations in this area. While this may result in some inconvenience to non-participating aircraft operating outside/under the Class B airspace, it is necessary to ensure the safety of the system overall.

Another commenter stated that lower Class B floors are not necessary because airlines prefer to stay high and perform idle descents. This commenter discussed arrivals only, even though many of the Class B floors are being lowered due to the requirement to contain ATL departures within the Class B airspace.

Another commenter claimed that the FAA did not adopt any suggestions from the Ad hoc Committee and did not consider the Committee's proposed alternative design.

The FAA does not agree. The FAA fully considered the Ad Hoc Committee's recommendations and alternative design. In fact, a number of Committee suggestions were incorporated, such as removing Covington Municipal Airport (9A1) from beneath the proposed Class B; eliminating the existing and proposed “wings” at the four corners of the Class B; and developing T-routes and VFR reporting points at key points around the Class B to aid VFR navigation. The NPRM also explained specific reasons why the Committee's alternative design could not be adopted, including that the alternative design did not ensure the containment of large turbine powered aircraft in certain sections and/or would require changing ATC procedures to fit the proposal instead of amending the airspace to fit the procedures.

Another commenter said that, although the NPRM mentioned the possibility of new T-routes and VFR flyways, the FAA has done no work on defining them. Additionally the commenter related that obtaining clearance through the Class B is the exception and not the rule.

With regard to T-Routes, the FAA is currently designing T-Routes in the ATL terminal area. The effective date of the T-Routes will coincide with the implementation of procedural changes that are currently being developed as part of the Atlanta Metroplex Project. As noted in the NPRM, the FAA will establish additional VFR reporting points and VFR waypoints that will be depicted on the Atlanta Terminal Area Chart. With regard to clearance into or through the Atlanta Class B airspace, the commenter is correct; clearance into or through the Class B airspace is the exception and not the rule. This is due to the traffic volume surrounding the world's busiest airport. However, it remains the policy of Atlanta TRACON to authorize aircraft to transition through the Class B airspace to the maximum extent practical based on operational demands.

Some commenters stated that the Class B floors to the north and south do not need to be lowered at all, and that the FAA instead should consider having jet traffic intercept the glideslope at a higher altitude. The commenters contend that this would be more fuel efficient and would lower the noise impact since the traffic would be higher and that aircraft excluded from the Class B would not be as compressed into the small remaining airspace.

The FAA does not agree. With regard to intercepting the glide slope at a higher altitude, the comments do not account for the fact that ATL conducts simultaneous triple ILS approaches. As described in the NPRM, this procedure requires that aircraft being turned onto parallel final approach courses be separated by 3 miles longitudinally, or 1,000 feet vertically until they are established on the final approach course. As a result, lower floors to the north and south of ATL are required to provide Class B airspace to contain those operations. That, combined with the 3-degree ILS glideslope, results in a long, low final approach course. For aircraft to intercept the glideslope higher than they do today (e.g., 7,000 feet on the center final) would force the Class B to be even bigger, the finals to be longer, and extend the pattern outside of the service volume of the ILS NAVAID. Additionally, ATL utilizes triple departure procedures which further add to the need for modifying the Class B airspace. It should be noted that ATL is not unique in this regard. Other locations conducting simultaneous triple ILS approaches, such as Chicago O'Hare International and Charlotte/Douglas International, have similar Class B airspace considerations.

Several commenters criticized the modified Class B design contending that it can only be identified with an RNAV-quality mapping device. They argue that this is not practical in pleasure aircraft and would require the purchase of additional equipment. Furthermore, they state that the lateral limits of the airspace are best defined by radials and distances unless landmarks clearly visible in both daylight and darkness can be used.

The FAA does not agree that the rule requires the purchase of additional equipment. Some boundaries in the ATL Class B design are not based on NAVAID radials and distances. Although that is the preferred method, it was found that to define all boundaries based on NAVAID references, and still achieve the required containment of ATL operations, it would be necessary to move the new boundaries in such a way that the Class B airspace would be expanded beyond FAA requirements and the Class B would be larger than that defined in this rule. This would impact nonparticipating aircraft to an unnecessary degree. Therefore, identifying the new boundaries cannot always be accomplished solely with reference to conventional navigation instruments. A variety of means may be required including VORTAC, RNAV and/or by visual reference using the sectional chart or TAC depictions. This situation is not unique. There are other Class B airspace areas and many military special use airspace areas depicted on sectional charts that are not defined by NAVAID radials, and where pilots must avoid the airspace or receive clearance for entry. As noted in the NPRM, the FAA is establishing new VFR reporting points and waypoints to assist VFR pilot navigation in the Atlanta terminal area. These points will be located over areas that can be easily identified visually. The FAA is also establishing VFR routes that can be used to circumnavigate the Class B airspace when necessary. The VFR Flyway Planning Chart, on the back of the Atlanta Terminal Area Chart, will be updated to reflect these new features. In addition, the FAA has recently introduced a new product called “VFR Class B Enhancement Graphics.” The new graphics show the geographic coordinates of each Class B boundary intersection, as well as a NAVAID radial/DME fix for each point and the length (in nautical miles) of each straight-line Class B boundary segment. The new graphics are designed to increase safety and aid pilots in gaining situational awareness within or around the Class B area. A graphic will be produced depicting the modified Atlanta Class B airspace to coincide with the effective date of the Class B changes. This will provide pilots a way to use the ATL VORTAC to identify the Class B boundaries. Therefore, it is not necessary for pilots to purchase additional equipment in order to navigate around the Atlanta Class B airspace area.

A commenter stated that the Class B changes will not save airline fuel. Since airlines favor longer, idle power descents and uninterrupted climbs to more fuel efficient altitudes, lowering the Class B floors only gives more opportunity for unwanted level segments.

The FAA does not agree. The Atlanta Class B is designed to accommodate both arriving and departing aircraft operations. Some Class B airspace floors are designed to contain ATL departures, including those aircraft that do not have a sufficient climb rate capability to remain within the existing Class B airspace during departure. Although these aircraft may be cleared for an unrestricted climb, their limited climb capability is insufficient to remain within the rising Class B floors of the current airspace configuration.

A commenter contended that the addition of the fifth runway and new RNAV procedures at ATL have decreased the need for expanded Class B airspace. The commenter asserted that the fifth runway has been open since 2006 with excellent results in the existing Class B and the new RNAV procedures at ATL actually increase navigational accuracy and require less airspace, not more.

The current Class B airspace is not adequate. Atlanta TRACON has documented hundreds of aircraft that exit the existing Class B airspace on a daily basis. Simulations have been run to validate the proposed Class B airspace design and virtually every aircraft that exited the existing Class B airspace would have been contained within the new Class B airspace design.

Several commenters stated that the ATL Class B should not be changed based on the reason specified in the NPRM that air traffic controller workload is increased because they are required to notify aircraft leaving the Class B when they exit, and again, when they reenter the airspace. The commenters said that this requirement is obsolete and should be eliminated rather than changing the Class B airspace to reduce the workload.

FAA orders require large turbine-powered aircraft to be retained within Class B airspace to the maximum extent possible. Containment of these aircraft within Class B airspace is a major item of interest of the FAA's Office of Aviation Safety Oversight. The main reason for this rulemaking action is not the advisory to aircraft that they are leaving or re-entering the Class B, but rather that aircraft cannot routinely be contained within the existing Class B airspace due to the existing airspace design. This is a safety issue, and the fundamental reason for the change. The Class B modifications will have the added benefit of reducing controller workload because the need to issue such advisories will be significantly reduced. This will allow controllers to devote attention to aircraft separation responsibilities.

One commenter suggested that the FAA publish “ATC climb rates,” in addition to the minimum rate required for obstacle clearance for heavy aircraft departures during summertime operations that are unable to climb into the existing Class B. Pilots would understand that if they can meet the obstacle rate, but not the ATC rate, they may notify ATC prior to takeoff and request relief. This would reduce the number of aircraft inadvertently outside the Class B while giving ATC sufficient time to anticipate when those situations might occur.

Atlanta TRACON researched the possibility of implementing published “ATC climb rates.” Unfortunately, the current criteria for the development of Area Navigation Standard Instrument Departures (RNAV SIDs) does not allow a procedure to be designed that would retain all departing aircraft within the existing Class B airspace on their current routes. Also, this would not satisfy the requirement to contain aircraft within Class B airspace to the maximum extent.

Another commented that lower floors to the north and south of ATL do not improve satellite airport safety.

The FAA does not agree. The justification for lowering the Class B floors is to contain all existing large turbine-powered aircraft departing from and arriving at the primary airport (ATL) within the Class B airspace. This enhances the safety of satellite airport operations by segregating the large turbine-powered aircraft from other aircraft that are not in communication with ATC.

A commenter questioned the rationale in the NPRM regarding the need to keep all Missed Approach Procedures (MAP) within Class B. The commenter said it is well known that ATC rarely uses the published MAP, and instead controllers offer vectors or alternate instructions; the charted MAP is for emergencies or loss of communications purposes. The commenter said that normally aircraft conducting a missed approach would be directed to remain within Class B and the use of the published MAP is extremely rare. The commenter objected to a major airspace change for such infrequent occurrences.

The FAA disagrees. The commenter interpreted statements in the NPRM concerning MAP as meaning only the published MAPs. Although the published MAPs are also a concern, the aircraft that are vectored following a missed approach must remain at 3,000 feet south of the airport. This is required procedurally to vertically separate missed approach aircraft off of runways 10/28 from aircraft missing approach off runways 9R/27L that are climbing to 4,000 feet on the same tracks. This procedure has been in place since the fifth runway opened at ATL in May 2006, and causes aircraft to exit the existing Class B airspace configuration. Climbing aircraft higher is not an option due to the corridor over the top of the Atlanta Airport that serves general aviation satellite airport departures and arrivals at 5,000 and 6,000 feet.

One commenter objected to the Class B change for cost reasons. The commenter stated that the current airspace has served well since 2006 and increased efficiency has been gained since then with GPS and RNAV procedures. Considering the vast number of products that would need updating, the commenter said this project should be abandoned.

The problems with the Class B configuration since 2006 were addressed in a previous comment. Regarding the costs of updating various products to reflect the airspace changes, FAA charts and related aeronautical products are continually updated to reflect current aeronautical, terrain and other information. Charts and other products are published on a regular cycle to accommodate these changes. As an example, new editions of the VFR Terminal Area Charts are published twice a year. An average of 100 chart changes are incorporated in each new edition. These changes are considered part of the ordinary cost of chart revision, and therefore, the FAA will not incur any additional costs due to the Class B changes.

A commenter alleged that there is no need to modify the airspace in Atlanta because there are no current conflicts between commercial carriers and private flights and that changing the airspace would only impact private flights, making access into and out of the ATL Class B more difficult.

The commenter is incorrect regarding the mix of aircraft in the Atlanta terminal area. There are sections where Atlanta IFR large turbine-powered aircraft and nonparticipating VFR aircraft share the same airspace. However, incidents between these IFR and VFR aircraft do not occur because controllers routinely take action to prevent them. The Class B modification is required to provide Class B containment to ensure that those operations continue to be safe without the need for controller intervention. Regarding the comment that the change will make access to the Class B more difficult, the FAA agrees that access to the Atlanta Class B airspace is limited. However, such access is based on the traffic situation. The overall size of the Class B airspace is being reduced from a maximum of 42 miles down to 30 miles which frees up many cubic miles of airspace and converts it from Class B to Class E airspace. There is no permission needed from ATC to operate in Class E airspace. As discussed above, the FAA is taking a number of steps to enhance VFR navigation in the ATL terminal area.

A few commenters stated that modifying the Class B would not improve the flow of traffic into ATL, but would have the effect of “compacting” general aviation aircraft into lower altitudes.

The commenters are correct, changing the Class B airspace will not, in and of itself, improve the traffic flows into Atlanta, but it will ensure that current traffic flows are contained within the Class B airspace. The purpose of this change is not specifically to improve traffic flow, but to ensure safety in the Atlanta terminal area. The issue of compression of VFR traffic is addressed previously.

Two pilots that fly IFR in the Atlanta area were concerned about the amount of time they are held below the present Class B airspace, resulting in inefficiency and added fuel costs.

IFR flights are restricted to lower altitudes when necessary to ensure separation from other traffic, not because of the Class B airspace. The initial altitudes assigned IFR aircraft departing the satellite airports around Atlanta will not change due to this Class B change. Efforts are underway as part of the Atlanta Metroplex Project to find ways of climbing satellite jet departures to higher altitudes as soon as possible. Class B airspace will not affect that on-going project.

A commenter said there is no need to expand the Class B airspace because the construction of the fifth runway at ATL, along with the decreased traffic count in recent years, has reduced the need for additional airspace.

The FAA does not agree. Regarding the addition of the fifth runway, the commenter did not consider the fact that ATL conducts simultaneous triple ILS approaches. As described in an earlier response (see above), this procedure requires that aircraft being turned onto parallel final approach courses be separated by 3 miles longitudinally, or 1,000 feet vertically until they are established on the final approach course. This is one of several reasons for modifying the Class B airspace. Regarding the decreased traffic count, the commenter is correct that ATL's traffic count has decreased since 2008 (as has traffic system-wide) reflecting the general U.S. economic downturn. However, ATL's traffic figures are still 3 times more than the threshold required qualifying for Class B airspace. In addition, the latest validated passenger enplanements for ATL (CY 2011) are more than 8 times the threshold requirement for Class B airspace and reflect nearly a 3 percent rise from the previous year. As the economy improves, Atlanta traffic volume is expected to increase to exceed the 2008 level. Even at the current volume, containment of Atlanta traffic is the issue that needs to be addressed for safety reasons.

A commenter supported the FAA's plan to establish VFR waypoints, VFR reporting points, VFR routes, and RNAV T-Routes for transitioning through or around the Class B airspace, but is concerned that these would not be in place and charted when the airspace changes become effective. This commenter also suggested that the FAA develop specific VFR arrival and departure routes for PDK.

The FAA will publish the above-mentioned VFR points concurrent with the publication of the new Class B charts. The RNAV T-routes will be published once they have been developed and implemented through a separate rulemaking action. Regarding PDK VFR routes, the FAA is developing suggested VFR flyways to be published on the Atlanta Terminal Area Chart.

Several commenters argued that the 12,500-foot MSL ceiling of ATL Class B area is unnecessarily high and prevents unpressurized VFR aircraft from transitioning the area at higher altitudes. They cited examples where most other Class B locations have ceilings at or below 10,000 feet MSL.

Although other locations have Class B ceilings lower than ATL, all Class B airspace dimensions are individually tailored to meet site-specific requirements. The 12,500 foot Class B ceiling encompasses ATL's transition altitudes. Within this airspace, jet aircraft departing ATL are initially climbed to 10,000 feet; while jet aircraft arriving ATL are initially descended to 12,000 feet. Within 30 miles of the ATL airport is where all of these aircraft transition between 10,000 and 12,000 feet. The arrivals begin their descent to land and, once the departures are clear of the arrivals, the departures begin climbing to cruise altitude. Having VFR aircraft that are not in communication with ATC operating in this airspace reduces the margin of safety in the high volume airspace surrounding the world's busiest airport. The current 12,500 foot ceiling has been in existence since 1975 and has provided an excellent safety record. This ceiling provides adequate protection to arrivals and departures as they transition to and from the en route structure. For those reasons, the FAA did not propose a change to the existing Class B airspace ceiling.

Lastly, a commenter submitted an alternative Class B diagram for the FAA to consider that proposed a different altitude structure than was contained in the NPRM. The suggested Class B floors were the same as the FAA's proposal in areas A through E, but were significantly higher in the other areas to the north and south of ATL. In addition, a 10,000 foot MSL ceiling was suggested to replace the existing 12,500-foot ceiling.

The FAA reviewed the proposal but did not adopt it because it does not meet the requirements to contain all of ATL's existing arrival and departure flows within Class B airspace as required by FAA directives. Many aircraft do not have a sufficient climb capability to remain within the Class B floors suggested in the commenter's proposal.

Differences From the NPRM

The descriptions of subareas F, I and J have been modified from that proposed in the NPRM. In light of public and Ad Hoc Committee inputs, the FAA reevaluated the Class B design in the vicinity of PDK and determined that the proposed 5,000-foot Class B floor airspace over PDK could be raised to 7,000 feet. This is accomplished by moving the northern boundary of Area F, and the southern boundary of Area I, to the south of PDK; and by moving the west boundary of the section of Area J (that lies northeast of PDK) to the east by two miles. The revised subarea descriptions are listed in the “Adoption of the Amendment” section, below. Additionally, a correction of one second of longitude is made to the Hartsfield-Jackson Atlanta International Airport reference point to reflect the latest FAA database values.

The Rule

The FAA is amending Title 14 of the Code of Federal Regulations (14 CFR) part 71 to modify the Atlanta, GA, Class B airspace area. This action (depicted on the attached chart) reduces the overall lateral boundaries of the airspace and expands the vertical boundaries by lowering the floors of some subareas. These modifications are necessary to provide the additional Class B airspace needed to contain large turbine-powered aircraft operating to and from ATL. The modifications to the ATL Class B airspace area are summarized below. The following areas extend upward from the specified altitudes to 12,500 feet MSL:

Area A. Area A is the surface area that extends from the ground up to 12,500 feet MSL. The FAA is not making any changes to Area A.

Area B. The revised area consists of that airspace extending upward from 2,500 feet MSL east and west of the Atlanta airport. It combines two existing subareas, B and C. The existing area B consists of a small segment of airspace, east of the ATL airport that extends upward from 2,100 feet MSL between the 7- and 9-NM radii of the Atlanta VORTAC. The existing Area C includes that airspace extending upward from 2,500 feet MSL, east and west of Atlanta airport between the 7- and 12-NM radii of the Atlanta VORTAC. With this change, the existing 2,100-foot floor of Class B airspace is eliminated.

Area C. The area is redefined to include that airspace that extends upward from 3,000 feet MSL (as described above, the existing Area C extends upward from 2,500 feet MSL). The new Area C lowers the existing floor of Class B airspace from 3,500 feet MSL to 3,000 feet MSL. Currently, Area D includes the airspace extending upward from 3,500 feet MSL. With this change, most of the airspace now in Area D is incorporated into the new Area C (with the lower 3,000-foot floor).

Area D. This area consists of that airspace extending upward from 3,500 feet MSL. However, it is significantly reduced in size due to the modification of Area C, described above. The revised Area D includes only that airspace bounded on the south by a line 4 miles north of and parallel to the Runway 08L/26R localizer course, and on the north by a line 8 miles north of and parallel to the above mentioned localizer courses. The revised Area D is bounded on the west by long. 84°51′38″ W., and on the east by long. 84°00′32″ W.

Area E. This area continues to include the airspace extending upward from 4,000 feet MSL, but it is modified by incorporating a small segment of Class B airspace south of ATL that currently extends upward from 6,000 feet MSL. In addition, Area E incorporates the two segments, currently extending upward from 5,000 feet MSL that were added by the October 2006 rule as discussed in the NPRM.

Area F. Area F consists of that airspace extending upward from 5,000 feet MSL. The area currently is composed of four small segments, one southwest of ATL, one southeast of ATL, and the two segments east and west of ATL that were designated in the October 2006 rule. These four areas would be removed from Area F and incorporated into other subareas with lower floors. The modified Area F is located north of ATL within the area bounded on the south by a line 8 miles north of and parallel to the Runway 08L/26R localizer courses, and on the north by a line 12 miles north of and parallel to the above mentioned localizer courses. On the east and west, Area F is bounded by long. 83°54′04″ W.; and long. 84°57′41″ W., respectively. The effect of this change is to lower the floor of Class B airspace from 6,000 feet MSL to 5,000 feet MSL in the described area.

Area G. Area G contains that airspace extending upward from 6,000 feet MSL. Currently, Area G consists of airspace north of ATL, which is largely incorporated into the revised Area F. The revised Area G consists of the airspace bounded approximately between the Atlanta VORTAC 30 NM radius on the south, and a line 12 miles south of and parallel to the Runway 10/28 localizer courses.

Area H. This area consists of two airspace segments that extend upward from 5,000 feet MSL, one located southwest and one located southeast of ATL. The Area H segments are bounded on the north by a line 12 miles south of and parallel to the Runway 10/28 localizer courses and on the south by the 30 NM radius of the Atlanta VORTAC, excluding the airspace within Area G as described above.

Area I. Area I is redefined to consist of the airspace extending upward from 7,000 feet MSL north of ATL. The revised Area I is bounded on the north side by the 30 NM radius of the Atlanta VORTAC; on the south by a line 12 NM north of and parallel to the Runway 08L/26R localizer courses; on the east by a line drawn from lat. 33°50′59″ N., long. 84°16′38″ W., direct to lat. 34°04′20″ N., long. 84°09′24″ W.; and on the west by a line from lat. 33°50′59″ N., long. 84°34′14″ W. direct to lat. 34°01′40″ N., long. 84°47′55″ W. This change would lower the floor of Class B airspace from 8,000 feet MSL to 7,000 feet MSL in the defined area.

Area J. Area J is a new subarea to describe that airspace extending upward from 6,000 feet MSL in two segments, one northwest and one northeast, of ATL. One segment abuts the west side of Area I and the other segment abuts the east side of Area I. The two segments also abut the northern boundary of Area F, with the 30 NM radius of the Atlanta VORTAC defining their northern edges. Area J lowers part of the Class B airspace floor from 8,000 feet MSL to 6,000 feet MSL in the northwest and northeast sections of the area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507(d)) requires that the FAA consider the impact of paperwork and other information collection burdens imposed on the public. We have determined that there is no new information collection requirement associated with this rule.

Regulatory Evaluation Summary

Changes to Federal regulations must undergo several economic analyses. First, Executive Order 12866 and Executive Order 13563 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this final rule. The reasoning for this determination follows:

This action modifies the Atlanta, GA, Class B airspace area to ensure the containment of aircraft within Class B airspace, reduce controller workload and enhance safety in the Atlanta, GA, terminal area. It lowers the Class B airspace in some sections to encompass existing IFR traffic. Lowering the floor of the Class B airspace will increase safety by segregating large turbine-powered aircraft from aircraft that may not be in contact with ATC. It also increases safety and reduces air traffic controller workload by reducing the number of radio communications that air traffic controllers must use to inform IFR aircraft when they are leaving and re-entering Class B airspace. This reduces the amount of distraction that air traffic controllers face in issuing these communications and frees radio time for more important control instructions. IFR traffic will not be rerouted as a result of this proposal.

The change may cause some VFR pilots to have to choose between flying lower, circumnavigating the area, or requesting Class B service from A80 to transition the area. This has the potential of increasing costs to VFR pilots if the alternative routes are longer, take more time and burn more fuel. The FAA believes, however, that there will be minimal impact to VFR aircraft operating where the Class B floor will be lowered. Commenters did not offer specific comments on increased fuel consumption for VFR flights if the pilot of these flights chose alternative routes. An FAA sampling of VFR traffic found that 98 percent of 7123 VFR flights were already operating below the 5,000-foot floor proposed in the NPRM. Since the final rule raises a portion of this floor, we can still conclude that an estimated 98% of VFR flights based on this sample will operate below the redesigned Class B floor. Where the floor will be lowered to 3,000 feet, we believe there is sufficient airspace to allow safe flight below the Class B airspace. The minimum vectoring altitude (based in part on obstruction clearance) under most of the 3,000 foot floor is 2,500 feet. VFR aircraft can and do fly safely at 2,000 feet under the existing Class B floor. Recognizing that some VFR aircraft may elect to circumnavigate instead of flying lower, only a short deviation in distance and time will be needed to place the aircraft beneath a higher Class B floor.

The FAA intends to take actions that will increase the alternatives available to VFR pilots. For instance, the FAA intends to establish VFR Waypoints and Reporting Points to assist VFR pilot navigation, and to establish VFR routes that can be used to circumnavigate the Class B airspace or used as a predetermined route through the Class B airspace when operations permit. In addition to these new VFR waypoints, the FAA will establish RNAV T-Routes within Class B airspace for transitioning over the top of ATL airports. These various alternatives should provide pilots with options that will assist them in navigating around or beneath the Class B and/or to request ATC clearance to cut through the Class B. The FAA believes that no more than a small percent of VFR traffic will choose to travel longer, less efficient or more costly routes because safe flight will still be possible beneath most of the Class B airspace, A80 would continue to provide VFR services to assist pilots in transiting the area, and only short course deviations would be needed if pilots decide to avoid the areas with lower Class B floors.

The FAA has made changes relative to the NPRM by raising the floor of the proposed Class B in the vicinity of PDK from 5,000 feet to 7,000 feet. This may be relieving in that additional airspace will be available for GA operations relative to the proposal.

The FAA will have to update maps and charts to indicate the airspace modifications, but these documents are updated regularly. These modifications will be made within the normal updating process and therefore will not contribute to the cost of the rule since the updates would be as scheduled.

The rule redefines Class B airspace boundaries to improve safety, will not require updating of materials outside the normal update cycle, will not require rerouting of IFR traffic, and is expected to possibly cause some VFR traffic to travel alternative routes which are not expected to be appreciably longer than with the current airspace design. The expected outcome will be a minimal impact with positive net benefits, and a regulatory evaluation was not prepared.

FAA has, therefore, determined that this final rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The rule is expected to improve safety by redefining Class B airspace boundaries and will impose only minimal costs because it will not require rerouting of IFR traffic, could possibly cause some VFR traffic to travel alternative routes that are not expected to be appreciably longer than with the current airspace design, and will not require updating of materials outside the normal update cycle. The FAA reviewed the comments and did not find any comments that would lead us to conclude that there would be an impact on small businesses. Therefore, the expected outcome will be a minimal economic impact on small entities affected by this rulemaking action.

Therefore as the acting FAA Administrator, I certify that this rule will not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that it will have only a domestic impact and therefore no effect on international trade

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This final rule does not contain such a mandate; therefore, the requirements of Title II of the Act do not apply.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012, is amended as follows:

Paragraph 3000 Subpart B—Class B Airspace.

* * * * *

ASO GA B Atlanta, GA [Amended]

Hartsfield-Jackson Atlanta International Airport (Primary Airport)

(Lat. 33°38′12″ N., long. 84°25′40″ W.)

Atlanta VORTAC

(Lat. 33°37′45″ N., long. 84°26′06″ W.)

Boundaries

Area A. That airspace extending upward from the surface to and including 12,500 feet MSL, bounded on the east and west by a 7-mile radius of the Atlanta VORTAC, on the south by a line 4 miles south of and parallel to the Runway 10/28 localizer courses, and on the north by a line 4 miles north of and parallel to the Runway 08L/26R localizer courses; excluding the Atlanta Fulton County Airport-Brown Field, GA, Class D airspace area.

Area B. That airspace extending upward from 2,500 feet MSL to and including 12,500 feet MSL, bounded on the east and west by a 12-mile radius of the Atlanta VORTAC, on the south by a line 4 miles south of and parallel to the Runway 10/28 localizer courses, and on the north by a line 4 miles north of and parallel to the Runway 08L/26R localizer courses; excluding the Atlanta Fulton County Airport-Brown Field, GA, Class D airspace area and that airspace contained in Area A.

Area C. That airspace extending upward from 3,000 feet MSL to and including 12,500 feet MSL, bounded on the east by long. 84°00′32″ W., on the west by long. 84°51′38″ W., on the south by a line 8 miles south of and parallel to the Runway 10/28 localizer courses, and on the north by a line 4 miles north of and parallel to the Runway 08L/26R localizer courses; excluding that airspace contained in Areas A and B.

Area D. That airspace extending upward from 3,500 feet MSL to and including 12,500 feet MSL, bounded on the east by long. 84°00′32″ W., on the west by long. 84°51′38″ W., on the south by a line 4 miles north of and parallel to the Runway 08L/26R localizer courses, and on the north by a line 8 miles north of and parallel to the Runway 08L/26R localizer courses.

Area E. That airspace extending upward from 4,000 feet MSL to and including 12,500 feet MSL, bounded on the east by long. 83°54′04″ W., on the west by long. 84°57′41″ W., on the south by a line 12 miles south of and parallel to the Runway 10/28 localizer courses and on the north by a line 8 miles north of and parallel to the Runway 08L/26R localizer courses; excluding that airspace contained in Areas A, B, C, and D.

Area F. That airspace extending upward from 5,000 feet MSL to and including 12,500 feet MSL, within a 30-mile radius of the Atlanta VORTAC and bounded on the east by long. 83°54′04″ W., on the south by a line 8 miles north of and parallel to the Runway 08L/26R localizer courses, on the west by long. 84°57′41″ W., and on the north by a line 12 miles north of and parallel to the Runway 08L/26R localizer courses.

Area G. That airspace extending upward from 6,000 feet MSL to and including 12,500 feet MSL bounded on the north by a line 12 miles south of and parallel to the Runway 10/28 localizer courses, on the east by a line from lat. 33°25′21″ N., long. 84°16′49″ W. direct to lat. 33°15′33″ N., long. 84°01′55″ W., on the south by a 30-mile radius of the Atlanta VORTAC, and on the west by a line from lat. 33°25′25″ N., long. 84°33′32″ W. direct to lat. 33°18′26″ N., long. 84°42′56″ W. and thence south via long. 84°42′56″ W.

Area H. That airspace extending upward from 5,000 feet MSL to and including 12,500 feet MSL, within a 30-mile radius of the Atlanta VORTAC south of a line 12 miles south of and parallel to the Runway 10/28 localizer courses, bounded on the west by long. 84°57′41″ W. and on the east by long. 83°54′04″ W. excluding that airspace within the lateral limits of area G.

Area I. That airspace extending upward from 7,000 feet MSL to and including 12,500 feet MSL bounded on the north by the 30-mile radius of the Atlanta VORTAC, on the east by a line from lat. 33°50′59″ N., long. 84°16′38″ W. direct to lat. 34°04′20″ N., long. 84°09′24″ W., on the south by a line 12 miles north of and parallel to the Runway 08L/26R localizer courses, and on the west by a line from lat. 33°50′59″ N., long. 84°34′14″ W. direct to lat. 34°01′40″ N., long. 84°47′55″ W.

Area J. That airspace extending upward from 6,000 feet MSL to and including 12,500 feet MSL bounded on the north by a 30-mile radius of the Atlanta VORTAC, on the east by long. 83°54′04″ W., on the south by a line 12 miles north of and parallel to the Runway 08L/26R localizer courses, and on the west by long. 84°57′41″ W., excluding that airspace within the lateral limits of area I.

Issued in Washington, DC, on December 6, 2012.
Gary A. Norek,
Manager, Airspace Policy and ATC Procedures Group.

BILLING CODE 4910-13-P

[FR Doc. 2013-00287 Filed 1-7-13; 4:15 pm]

BILLING CODE 4910-13-C